DEPARTMENT OF ENERGY

Federal Energy Regulatory Commission

Combined Notice of Filings #1

Take notice that the Commission received the following electric corporate filings:

Docket Numbers: EC19-33-000.

Applicants: West Penn Power Company.

Description: Application for Authorization Under Section 203 of the Federal Power Act, et al. of West Penn Power Company.

Filed Date: 12/7/18.

Accession Number: 20181207-5234.

Comments Due: 5 p.m. ET 12/28/18.

Take notice that the Commission received the following exempt wholesale generator filings:

Docket Numbers: EG19-32-000.

Applicants: Coolidge Power LLC.

Description: Coolidge Power LLC Notice of Self-Certification of Exempt Wholesale Generator Status.

Filed Date: 12/10/18.

Accession Number: 20181210-5095.

Comments Due: 5 p.m. ET 12/31/18.

Take notice that the Commission received the following electric rate filings:

Docket Numbers: ER16-1804-002.

Applicants: Deepwater Wind Block Island, LLC.

Description: Notice of Non-Material Change in Status of Deepwater Wind Block Island, LLC.

Filed Date: 12/7/18.

Accession Number: 20181207-5247.

Comments Due: 5 p.m. ET 12/28/18.

Docket Numbers: ER17-2415-002.

Applicants: Pilesgrove Solar, LLC.

Description: Compliance filing: Tariff Records to Reflect Settlement to be effective 10/1/2018.

Filed Date: 12/10/18.

Accession Number: 20181210-5158.

Comments Due: 5 p.m. ET 12/31/18.

Docket Numbers: ER18-89-002.

Applicants: Frenchtown I Solar, LLC.

Description: Compliance filing: Tariff Records to Reflect Settlement to be effective 10/1/2018.

Filed Date: 12/10/18.

Accession Number: 20181210-5155.

Comments Due: 5 p.m. ET 12/31/18.

Docket Numbers: ER18-90-002.

Applicants: Frenchtown II Solar, LLC.

Description: Compliance filing: Tariff Records to Reflect Settlement to be effective 10/1/2018.

Filed Date: 12/10/18.

Accession Number: 20181210-5156.

Comments Due: 5 p.m. ET 12/31/18.

Docket Numbers: ER18-1899-003.

Applicants: Midcontinent Independent System Operator, Inc.

Description: Compliance filing: 2018-12-10_Compliance re Pro Forma Pseudo-Tie Agreement to be effective 8/29/2018.

Filed Date: 12/10/18.

Accession Number: 20181210-5177.

Comments Due: 5 p.m. ET 12/31/18.

Docket Numbers: ER18-2397-001.

Applicants: Midcontinent Independent System Operator, Inc.

Description: Compliance filing: 2018-12-10_Deficiency response to Order 844 compliance to be effective 1/1/2019.

Filed Date: 12/10/18.

Accession Number: 20181210-5109.

Comments Due: 5 p.m. ET 12/31/18.

Docket Numbers: ER19-503-001.

Applicants: Pacific Gas and Electric Company.

Description: Tariff Amendment: Errata Filing to Notice of Termination of Proxima Solar E&P Agreement to be effective 12/3/2018.

Filed Date: 12/7/18.

Accession Number: 20181207-5222.

Comments Due: 5 p.m. ET 12/28/18.

Docket Numbers: ER19-520-000.

Applicants: Pacific Gas and Electric Company.

Description: § 205(d) Rate Filing: Balancing Accounts Update 2019 (TRBA, RSBA, ECRBA, TACBA) to be effective 3/1/2019.

Filed Date: 12/7/18.

Accession Number: 20181207-5221.

Comments Due: 5 p.m. ET 12/28/18.

Docket Numbers: ER19-521-000.

Applicants: PJM Interconnection, L.L.C.

Description: § 205(d) Rate Filing: Clean-up to OATT, Schedule 12-Appendix (BGE) re: cost allocation for b1016 to be effective 6/1/2017.

Filed Date: 12/10/18.

Accession Number: 20181210-5046.

Comments Due: 5 p.m. ET 12/31/18.

Docket Numbers: ER19-522-000.

Applicants: PJM Interconnection, L.L.C.

Description: Tariff Cancellation: Notice of Cancellation of WMPA SA No. 3392; Queue No. Y1-045 to be effective 10/15/2018.

Filed Date: 12/10/18.

Accession Number: 20181210-5056.

Comments Due: 5 p.m. ET 12/31/18.

Docket Numbers: ER19-523-000.

Applicants: Essential Power Rock Springs, LLC, PJM Interconnection, L.L.C.

Description: § 205(d) Rate Filing: Essential Power submits revisions to Att. H-23 re: Transmission Rate Update to be effective 2/8/2019.

Filed Date: 12/10/18.

Accession Number: 20181210-5124.

Comments Due: 5 p.m. ET 12/31/18.

Docket Numbers: ER19-524-000.

Applicants: PJM Interconnection, L.L.C.

Description: § 205(d) Rate Filing: Revisions to Att Q. re RPM Credit Reduction for Planned GCR and QTU to be effective 2/8/2019.

Filed Date: 12/10/18.

Accession Number: 20181210-5150.

Comments Due: 5 p.m. ET 12/31/18.

Docket Numbers: ER19-525-000.

Applicants: PJM Interconnection, L.L.C.

Description: § 205(d) Rate Filing: First Revised ISA, SA No. 2132; Queue No. AC2-130 to be effective 11/20/2018.

Filed Date: 12/10/18.

Accession Number: 20181210-5154.

Comments Due: 5 p.m. ET 12/31/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 10, 2018.
Nathaniel J. Davis, Sr.,
Deputy Secretary.

[FR Doc. 2018-27173 Filed 12-14-18; 8:45 am]

BILLING CODE 6717-01-P